SECURITIES AND EXCHANGE COMMISSION

[Release No. 34-44903; File No. 4-208]

Intermarket Trading System; Order Granting Approval of the Seventeenth Amendment to the ITS Plan Relating to Regional Computer Interface, 30-Second Commitment Expiration, and the Principal Place of Business of the Boston Stock Exchange, Inc.

October 3, 2001.

On July 16, 2001, the Intermarket Trading System Operating Committee (“ITSOC”) submitted to the Securities and Exchange Commission (“Commission”), pursuant to Section 11A of the Securities Exchange Act of 1934 (“ACT”),¹ and Rule 11A3a3-2 thereunder,² a proposed amendment (“Seventeenth Amendment”) to the restated ITS Plan.³ The proposed amendment recognized the National Association of Securities Dealers, Inc.'s (“NASD”) use of the Regional Computer Interface (“RCI”),⁴ and provided for a six-month pilot program for the use of a 30-second commitment expiration. In addition, the proposed amendment reflected the BSE's new principal place of business. Notice of the proposed amendment appeared in the Federal Register on August 15, 2001.⁵ The Commission received no comments on the proposed amendment. This order approves the proposed amendment.

¹ 15 U.S.C. 78k-1.

² 17 CFR 240.11Aa3-2.

³ The ITS is a National Market System (“NMS”) plan, which was designed to facilitate intermarket trading in exchange-listed equity securities based on current quotation information emanating from the linked markets. See Securities Exchange Act Release No. 19456 (January 27, 1983), 48 FR 4938 (February 3, 1983).

The ItS Participants include the American Stock Exchange LLC (“Amex”), the Boston Stock Exchange, Inc. (“BSE”), the Chicago Board Options Exchange, Inc. (“CBOE”), the Chicago Stock Exchange, Inc. (“CHX”), the Cincinnati Stock Exchange Inc. (“CSE”), the National Association of Securities Dealers, Inc. (“NASD”), the New York Stock Exchange, Inc. (“NYSE”), the Pacific Exchange, Inc. (“PCX”), and the Philadelphia Stock Exchange, Inc. (“PHLX”) (“Participants”).

⁴ “RCI” is defined in Section 1(34A) of the ITS Plan as the “automated linkage between the System and, and collectively, the Regional Switches and the AMEX [Display Book Manager] DBM that, when implemented, will enable members located on the floors of the Amex, BSE, the CHX, the PSE, and the PHLX to participate in the Applications.”

⁵ See Securities Exchange Act Release No. 44661 (August 8, 2001), 65 FR 42904.

The Commission finds that the proposed amendment is consistent with the Act and the rules and regulations thereunder applicable to the ITS and, in particular, sections 11A(a)(1)(C)(ii) and (D) of the Act,⁶ and Rule 11A3-2(c)(2) thereunder,⁷ which requires among other things, that such plan amendment is necessary or appropriate in the public interest, for the protection of investors and the maintenance of fair and orderly markets, and removes impediments to, and perfects the mechanisms of, a national market system. Specifically, the Commission believes that the plan amendment should help to enable the NASD to use the communications network that links all the Participant markets. In addition, the Commission believes that by providing a shorter commitment expiration option of 30-seconds as a six-month pilot program, the proposed amendment should foster efficiency and enhance competition among Participant markets.

⁶ 15 U.S.C. 78k-1(a)(1)(C)(ii) and (D).

⁷ 17 CFR 240.11A3-2(c)(2).

It Is Therefore Ordered, pursuant to section 11A(a)(3)(B) of the Act,⁸ that the proposed Seventeenth Amendment be, and hereby is, approved.

⁸ 15 U.S.C. 78k-1(a)(3)(B).

For the Commission, by the Division of Market Regulation, pursuant to delegated authority.⁹
⁹ 17 CFR 200.30-3(a)(29).
Margaret H. McFarland,
Deputy Secretary.

[FR Doc. 01-25702 Filed 10-11-01; 8:45 am]

BILLING CODE 8010-01-M